DEPARTMENT OF THE INTERIOR

National Park Service

National Register of Historic Places; Notification of Pending Nominations

Nominations for the following properties being considered for listing in the National Register were received by the National Park Service before October 7, 2000. Pursuant to § 60.13 of 36 CFR part 60, written comments concerning the significance of these properties under the National Register criteria for evaluation may be forwarded to the National Register, National Park Service, 1849 C St. NW., NC400, Washington, DC 20240. Written comments should be submitted by October 31, 2000.

Marilyn Harper,
Acting Keeper of the National Register.

Florida

Holmes County

Keith Cabin, 1320 FL 179, Pittman, 00001281

Manatee County

Souder, Paul M., House, (Whitfield Estates Subdivision MPS), 242 Greenwood Ave., Sarasota, 00001282

Georgia

Lamar County

Johnstonville—Goggins Historic District, Johnstonville Road W of I 75, Johnstonville, 00001283

Hawaii

Maui County

Bank of Hawaii—Haiku Branch, 771 Haiku Rd., Haiku, 00001284

Maryland

Caroline County

West Denton Warehouse—Wharf, 10215 River Landing Rd., West Denton, 00001285

Massachusetts

Worcester County

Corner Lunch, (Diners of Massachusetts MPS), 133 Lamartine St., Worcester, 00001286

New Hampshire

Merrimack County

Hay Estate, NH 103A, 2.2 mi. N of jct. of NH 103 and NH 103A, Newbury, 00001288

New Mexico

Mora County

Tipton—Black Willor Ranch Historic District, 3 mi. E of Watrous, Watrous, 00001287

New York

Steuben County

Germania Wine Cellars, 8299 Pleasant Valley Rd., Hammondsport, 00001289

Town Line Church and Cemetery, Cty Rte. 119, Cameron Mills, 00001317

Tioga County

Waits Methodist Episcopal Church and Cemetery, Waite Rd., Owego, 00001290

North Carolina

Mecklenburg County

McCoy, Albert, Farm (Rural Mecklenburg County MPS), 10401 McCoy Rd., Huntersville, 00001291

Surry County

Downtown Elkin Historic District, Roughly bounded by Market St., Hugh Chatham Bridge, Standard St., and Front St., Elkin, 00001292

Ohio

Cuyahoga County

Courtland, The, 5403 Detroit Ave., Cleveland, 00001296

Hamilton County

Miller, Thomas, House, 11294 US 50, Elizabethtown, 00001294

Wilson, Samuel and Sally, House, 1502 Aster Place, Cincinnati, 00001295

Oregon

Multnomah County

Alphabet Historic District, Roughly bounded by NW Lovejoy St., NW Marshall St., NW 17th Ave., W. Burnside St., and NW 24th Ave., Portland, 00001293

Vincent, Howard G., and Patrick J. Bannon House, (Eliot Neighborhood MPS), 27 NE Thompson St., Portland, 00001297

Utah

Salt Lake County

Crescent Elementary School (Sandy City MPS), 11020 S. State St., Sandy, 00001303

Cushing, Arthur and Ellen, House, (Sandy City MPS), 123 E. Pioneer, Sandy, 00001304

Dowding, Hannah Nash, House, (Sandy City MPS), 8830 S 60 E, Sandy, 00001305

Dowding—Rasmussen House, (Sandy City MPS), 98 E. Main St., Sandy, 00001306

Ford Motor Company Service Building, (Sandy City MPS), 280 S 400 W, Salt Lake City, 00001302

Jensen, Amos and Ida, House, (Sandy City MPS), 387 E 8800 S, Sandy, 00001307

Jensen—Clark House, (Sandy City MPS), 32 E. Main St., Sandy, 00001298

Jensen—Jensen House, (Sandy City MPS), 55 E. Pioneer Ave., Sandy, 00001299

Marriott, Anne P., House, (Sandy City MPS), 8543 S 100 E, Sandy, 00001300

Parmley, Mary Ellen, House, (Sandy City MPS), 5580 S 220 E, Sandy, 00001301

Sandy LDS Stake Recreation Hall (Sandy City MPS), 295 E 8800 S Sandy, 00001316

West Virginia

Berkeley County

Boggs, William, Farm, WV 7, Hedgesville, 00001310

Cabell County Foster Memorial Home, 700 Madison Ave., Huntington, 00001311

Hancock County

First National Bank—Graham Building, 100 N. Chester St., New Cumberland, 00001312

Jefferson County

Charles Town, Old, Historic District, Norfolk & Western RR, Charles Town line, Hessey Pl., North St., US 340, S. Charles St., Water St., and W. Washington St, Charles Town, 00001308

Kanawha County

St. Albans Main Street Historic District, Roughly bounded by Main St. bet. Second St. and B St., St. Albans, 00001315

Morgan County

Berkeley Springs Train Depot, 504 N. Washington St., Berkeley Springs, 00001313

Nicholas County

Nicholas County Bank, 800 Main St., Summerville, 00001314

Raleigh County

Beckley Feed and Hardware Company, 405 Prince St., Beckley, 00001309

A request for a MOVE has been made for the following resource:

Virginia

Halifax County

VA 622 W side, 1.5 mi. N of jct with VA 659 Elmo vicinity, 93000824

[FR Doc. 00-26511 Filed 10-13-00; 8:45 am]

BILLING CODE 4310-70-P